DEPARTMENT OF STATE

[Public Notice 11247]

Request for Statements of Interest

AGENCY: Department of State.

ACTION: Solicitation of applications.

SUMMARY: The Department of State announces a request for statements of interest (RSI) from qualified entities interested in seeking the Department's designation as an Accrediting Entity (AE) to accredit and approve U.S. agencies and persons that seek to provide adoption services in intercountry adoption cases. The RSI is posted on the website of the Office of Children's Issues, Bureau of Consular Affairs, U.S. Department State at adoption.state.gov.

DATES: The RSI will be open from November 1, 2020 through February 1, 2021 at 5 p.m. EDT. Extended time to submit a statement of interest may be considered upon request to the Department.

ADDRESSES: Consult the RSI posted on adoption.state.gov for instructions on where to submit statements of interest and supporting documents.

FOR FURTHER INFORMATION CONTACT: Questions may be submitted to Adoption@state.gov.

SUPPLEMENTARY INFORMATION: The Intercountry Adoption Act of 2000 (Pub. L. 106-279; 114 Stat. 825; 42 U.S.C. 14901 et seq.) designates the Department of State as the U.S. Central Authority for the 1993 Hague Convention on Protection of Children and Co-operation in Respect of Intercountry Adoption (Senate Treaty Doc. 105-51, 105th Cong., 2d Sess.). Some Central Authority duties are explicitly assigned to other entities, including the Department of Homeland Security (DHS). The IAA confers on the Department the authority and responsibility for establishing and overseeing the system for accreditation/approval and monitoring and oversight of accredited agencies and approved persons (hereinafter referred to as adoption service providers (ASPs)). Rather than mandating the Department to directly accredit/approve ASPs, the IAA directs the Department to select and designate one or more AEs to carry out those functions.

Designated AEs responsibilities are discussed in 22 CFR 96.7 and may be further established by agreement with the Department of State. The federal regulations governing intercountry adoption and the accreditation of agencies and approval of persons can be found at 22 CFR 96, with Subpart B focusing on the selection, designation, and duties of AEs.

This opportunity is extended to nonprofit organizations with expertise in developing and administering standards for entities providing child welfare services and to U.S. State or local government public entities with such expertise and responsibility for licensing adoption agencies, per 22 CFR 96.5. If selected, a State or local government public entity may only accredit/approve agencies and persons within the public entity's State. Federal government entities are not eligible to apply. Newly established nonprofit organizations may apply provided they meet the criteria for IRS Code 501(c)(3) status and can demonstrate that they have the required expertise, as discussed in 22 CFR 96.5, either as an entity or within their staffing.

Under 22 CFR 96.4, the Department is authorized to designate one or more entities to perform AE functions. The Department currently works with one designated AE that is responsible for accreditation/approval of agencies and persons throughout the United States. The number of AEs selected through the upcoming RSI process will depend on the qualifications of the applicants and the Department's determination regarding the best interests of the accreditation/approval program.

P. Matthew Gillen,
Chief, Adoptions Bilateral Engagement, Office of Children's Issues, Bureau of Consular Affairs, Department of State.

[FR Doc. 2020-24211 Filed 10-30-20; 8:45 am]

BILLING CODE 4710-06-P